DEPARTMENT OF THE INTERIOR

Bureau of Indian Affairs

Indian Gaming

AGENCY: Bureau of Indian Affairs, Interior.

ACTION: Notice of Tribal-State Class III Gaming Amendment taking effect.

SUMMARY: This publishes notice of an Amendment to a Compact between the Pokagon Band of Potawatomi Indians and the State of Michigan providing for the conduct of Tribal-State Class III gaming by the Pokagon Band of Potawatomi Indians taking effect.

DATES: Effective Date: October 23, 2008.

FOR FURTHER INFORMATION CONTACT: Paula L. Hart, Acting Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. This Amendment is entered into in connection with a unique set of circumstances resulting in our decision to neither approve nor disapprove the Amendment within the 45-day statutory time frame. This Amendment is in effect but only to the extent that it complies with the provisions of the Indian Gaming Regulatory Act.

Dated: October 14, 2008.
George T. Skibine,
Acting Deputy Assistant Secretary for Policy and Economic Development.

[FR Doc. E8-25208 Filed 10-22-08; 8:45 am]

BILLING CODE 4310-4N-P